ENVIRONMENTAL PROTECTION AGENCY

[FRL-8914-2; Docket ID No. EPA-HQ-ORD-2009-0210]

Draft Toxicological Review of 1,4-Dioxane: In Support of the Summary Information in the Integrated Risk Information System (IRIS)

AGENCY: Environmental Protection Agency (EPA).

ACTION: Notice of Listening Session and Peer Review Workshop.

SUMMARY: EPA is announcing a listening session to be held on Monday, July 6, 2009, during the public comment period for the external review draft document titled, “Toxicological Review of 1,4-Dioxane: In Support of Summary Information on the Integrated Risk Information System (IRIS)” (EPA/635/R-09/005). EPA is also announcing that Versar, Inc., an EPA contractor for external scientific peer review, will convene an independent panel of experts and organize and conduct an external peer review workshop to review the external review draft titled, “Toxicological Review of 1,4-Dioxane: In Support of Summary Information on the Integrated Risk Information System (IRIS) (EPA/635/R-09/005).” The public may also attend this workshop as observers through a registration process, and time will be set aside for observers to give brief oral comments at the workshop regarding the draft document under review. EPA will consider public comments and recommendations from the expert panel workshop as EPA finalizes the draft document.

EPA previously announced the 60-day public comment period (ending July 6, 2009) for the draft document in the Federal Register on May 7, 2009 (74 FR 21361). The public comment period and the external peer review workshop are separate processes that provide opportunities for all interested parties to comment on the document. EPA intends to forward public comments submitted in accordance with the aforementioned FR notice (May 7, 2009) to Versar, Inc. for consideration by the external peer review panel prior to the workshop. Listening session participants who wish to have their comments available to the external peer reviewers should also submit written comments during the public comment period using the detailed and established procedures included in the aforementioned FR notice (May 7, 2009). Comments submitted to the docket prior to the end of the public comment period will be submitted to the external peer reviewers and considered by EPA in the disposition of public comments. Comments received in the docket after the public comment period closes will not be submitted to the external peer reviewers. Public comments submitted during the 60-day public comment period ending July 6, 2009, may be observed at http://www.regulations.gov under Docket ID no. EPA-HQ-ORD-2009-0210. EPA intends to consider the comments and recommendations from the listening session, the external peer review workshop, and any public comments that EPA receives in accordance with the May 7, 2009, Federal Register notice (74 FR 21361).

EPA released this draft document as stated in the Federal Register notice (74 FR21361) solely for the purpose of pre-dissemination public review under applicable information quality guidelines. This document has not been formally disseminated by EPA. It does not represent and should not be construed to represent any Agency policy or determination.

The EPA's draft assessment and peer review charge are available via the Internet on the National Center for Environmental Assessment's (NCEA) home page under the Recent Additions and the Data and Publications menus at http://www.epa.gov/ncea.

DATES: The listening session on the draft IRIS health assessment for 1,4-dioxane will be held on Monday, June 22, 2009, beginning at 9 a.m. and ending at 4 p.m., Eastern Daylight Time. If you wish to make a presentation at the listening session, you should register by Monday, June 15, 2009, and indicate that you wish to make oral comments at the session, and indicate the length of your presentation. At the time of your registration, please indicate if you require audio-visual aid (e.g., lap top and slide projector). In general, each presentation should be no more than 30 minutes. If, however, there are more requests for presentations than the allotted time will allow, then the time limit for each presentation will be adjusted accordingly. A copy of the agenda for the listening session will be available at the meeting. If no speakers have registered by Monday, June 15, 2009, the listening session will be cancelled. EPA will notify those registered to attend of the cancellation.

The peer review workshop will begin on Monday, August 17, 2009, at approximately 8:30 a.m. and end at approximately 5 p.m., Eastern Standard Time. To attend the workshop, observers must register by Monday, August 10, 2009, according to the procedures outlined below. At the time of registration, please indicate if you wish to make brief oral comments at the workshop.

The public comment period for review of this draft assessment was announced previously in the Federal Register (74 FR 21361) on May 7, 2009. As stated in that FR notice, the public comment period began on May 7, 2009, and ends July 6, 2009. Any technical comments submitted during the public comment period should be in writing and must be received by EPA by July 6, 2009. Only those public comments submitted using the procedures identified in the May 7, 2009, FR notice by the July 6, 2009, deadline will be provided to the independent peer review panel prior to the peer review meeting.

ADDRESSES: The listening session on the draft 1,4-dioxane assessment will be held at the EPA offices at Two Potomac Yard (North Building), 7th Floor, Room 7100, 2733 South Crystal Drive, Arlington, Virginia 22202. To attend the listening session, register by Monday, June 15, 2009, via the Internet at http://epa.versar.com/14dioxane/listening. You may also register via e-mail: ssarraino@versar.com (subject line: 1,4-Dioxane Listening Session), by phone: (703) 750-3000, ext. 316 or toll free at 1-800-2-VERSAR (1-800-283-7727, ask for the 1,4-Dioxane listening session coordinator, Stephanie Sarraino), or by faxing a registration request to (703) 642-6954 (please reference the “1,4-Dioxane Listening Session” and include your name, title, affiliation, full address and contact information). Please note that to gain entrance to this EPA building to attend the meeting, attendees must have photo identification with them and must register at the guard's desk in the lobby. The guard will retain your photo identification and will provide you with a visitor's badge. At the guard's desk, attendees should give the name Christine Ross and the telephone number, 703-347-8592, to the guard on duty. The guard will contact Ms. Ross who will meet you in the reception area to escort you to the meeting room. Upon your exit from the building please return your visitor's badge and you will receive the photo identification that you provided.

For the listening session, a teleconference line will also be available for registered attendees/speakers. The teleconference number is 1-866-299-3188 and the access code is 9195410661, followed by the pound sign (#). The teleconference line will be activated at 8:45 a.m., and you will be asked to identify yourself and your affiliation at the beginning of the call.

The peer review workshop will be held at Courtyard Arlington Crystal City/Reagan National Airport, 2899 Jefferson Davis Highway, Arlington, VA 22202. Versar, Inc. is organizing, convening, and conducting the peer review workshop. To attend the workshop as an observer, register by Monday, August 10, 2009, via Internet at http://epa.versar.com/14dioxane/meeting. You may also register by e-mail: ssarraino@versar.com (subject line: 1,4-Dioxane Workshop), by phone: (703) 750-3000, ext. 316 or toll free at 1-800-2-VERSAR (1-800-283-7727, ask for the 1,4-Dioxane peer review workshop coordinator, Stephanie Sarraino), or by faxing a registration request to (703) 642-6954 (please reference the “1,4-Dioxane Workshop” and include your name, title, affiliation, full address, and contact information).

Information on Services for Individuals with Disabilities: EPA welcomes the attendance of the public at the “1,4-Dioxane Listening Session” and at the 1,4-dioxane peer review workshop and will make every effort to accommodate persons with disabilities. Please submit your request for accommodation of a disability at least 10 days prior to the meeting to give EPA as much time as possible to process your request.

For information on access or services for individuals with disabilities at the listening session, please contact Christine Ross at 703-347-8592 or ross.christine@epa.gov.

For information on access or services for individuals with disabilities at the peer review workshop, please contact Versar, Inc., 6850 Versar Center, Springfield, VA 22151; telephone: (703) 750-3000; facsimile: (703) 642-6954; or e-mail: ssarraino@versar.com (subject line: 1,4-Dioxane Workshop).

FOR FURTHER INFORMATION CONTACT: For information on the public listening session, please contact Christine Ross, IRIS Staff, National Center for Environmental Assessment (NCEA), (8601P), U.S. EPA, 1200 Pennsylvania Avenue, NW., Washington, DC 20460; telephone: 703-347-8592; facsimile: 703-347-8689; or e-mail: ross.christine@epa.gov.

For information on the peer review workshop, contact Versar, Inc. 6850 Versar Center, Springfield, VA 22151; telephone: (703) 750-3000; facsimile: (703) 642-6954; or e-mail: ssarraino@versar.com (subject line: 1,4-Dioxane Workshop).

If you have questions about the draft document, contact Eva D. McLanahan, Hazardous Pollutant Assessment Group (HPAG) Staff, NCEA, U.S. EPA, 109 T.W. Alexander Drive, B243-01, Durham, NC 27711; telephone: 919-541-1396; facsimile: 919-541-0245; or e-mail: mclanahan.eva@epa.gov.

SUPPLEMENTARY INFORMATION:

I. Summary of Information About the Integrated Risk Information System (IRIS)

IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with the specific exposure information, government and private entities can use IRIS data to help characterize public health risks of chemical substances in a site-specific situation and thereby support risk management decisions designed to protect public health.

II. Listening Session Information

The purpose of the listening session is to allow all interested parties to present scientific and technical comments on draft IRIS health assessments to EPA and other interested parties during the public comment period and prior to the external peer review workshop. EPA welcomes the scientific and technical comments that will be provided to the Agency by the listening session participants. The comments will be considered by the Agency as it revises the draft assessment in response to the independent external peer review and public comments. All presentations will become part of the official and public record.

III. Workshop Information

Members of the public may attend the workshop as observers, and there will be a limited time for oral comments from the public. Pre-registration is strongly recommended as space is limited, and registrations will be accepted on a first-come, first-served basis. The deadline for pre-registration is August 10, 2009. If space allows, registrations will continue to be accepted after this date, including on-site registrations. Time will be set aside to hear comments from observers, and individuals will be limited to a maximum of five minutes. Please let Versar, Inc. know if you wish to make comments during the workshop by registering as detailed in this FR notice and indicating your intent to make oral comments.

Dated: May 29, 2009.
Rebecca Clark,
Director, National Center for Environmental Assessment.

[FR Doc. E9-13478 Filed 6-8-09; 8:45 am]

BILLING CODE 6560-50-P